DEPARTMENT OF HEALTH AND HUMAN SERVICES

Administration for Children and Families

Privacy Act of 1974; Computer Matching Programs—Department Of Veterans Affairs

AGENCY: Administration for Children and Families, DHHS.

ACTION: Notice of a Computer Matching Program to Comply with Pub. L. 100-503, the Computer Matching and Privacy Protection Act of 1988.

SUMMARY: In compliance with Pub. L. 100-503, the Computer Matching and Privacy Protection Act of 1988, we are publishing a notice of a computer matching program that ACF will conduct on behalf of itself, the Health Care Financing Administration (HCFA), and the Food and Nutrition Service (FNS), utilizing Veterans Affairs pension and compensation information and State Public Assistance Agency records.

ADDRESSES: Interested parties may comment on this notice by writing to the Director, Office of State Systems Policy, Administration for Children and Families, Aerospace Building, 370 L'Enfant Promenade, SW, Washington, DC 20447. All comments received will be available for public inspection at this address.

FOR FURTHER INFORMATION CONTACT: Director, Office of State Systems Policy, Administration for Children and Families, Aerospace Building, 370 L'Enfant Promenade, SW, Washington, DC 20447, Telephone Number (202) 401-6959.

DATES: We filed a report of the subject ACF matching program with the Committee on Governmental Affairs of the Senate and the Committee on Government Reform and Oversight of the House of Representatives and the Office of Information and Regulatory Affairs, the Office of Management and Budget on March 31, 2000.

SUPPLEMENTARY INFORMATION:

A. General

Pub. L. 100-503, the Computer Matching and Privacy Protection Act of 1988, amended the Privacy Act (5 U.S.C. 552a) by adding certain protections for individuals applying for and receiving Federal benefits. The law regulates the use of computer matching by Federal agencies when records in a system of records are matched with other Federal, State and local government records.

The amendments require Federal agencies involved in computer matching programs to:

(1) Negotiate written agreements with source agencies;

(2) Provide notification to applicants and beneficiaries that their records are subject to matching;

(3) Verify match findings before reducing, suspending or terminating an individual's benefits or payments;

(4) Furnish detailed reports to Congress and OMB; and

(5) Establish a Data Integrity Board that must approve matching agreements.

B. ACF Computer Match Subject to Pub. L. 100-503

Below is a brief description followed by a detailed notice of a computer match that ACF will be conducting as of May 1, 2000 or later.

ACF computer match with Department of Veterans Affairs (VA). Purpose: To detect and determine the amount of benefit overpayment to public assistance recipients by verifying client VA pension and compensation circumstances using VA automated data files.

Notice of Computer Matching Program

State Public Assistance Agencies will match public assistance client records with VA compensation and pension records.

A. Participating Agencies

ACF, VA and State Public Assistance Agencies (SPAAs).

B. Purpose of the Matching Program

The purpose of this matching program is to provide the SPAAs listed in attachment A with data from the VA benefit and compensation file for the states to determine eligibility and insure fair and equitable treatment in the delivery of benefits attributable to funds provided by the Federal Government. The SPAAs, listed in attachment A, will provide ACF with a file of Medicaid, Temporary Assistance to Needy Families (TANF), general assistance and Food Stamp clients. VA will provide ACF with a file of individuals receiving VA compensation and pension benefits. The Defense Manpower Data Center (DMDC), in the role of a contractor providing computer support services to ACF, will match the SPAAs, listed in attachment A, files with the VA file and provide ACF with VA pension and compensation benefit information for all matched records. ACF will in turn provide the SPAAs with the appropriate VA information. The SPAAs listed in attachment A, will use the VA information to verify client circumstances for eligibility and for fair and equitable treatment, and to initiate adverse action when appropriate.

C. Authority for Conducting the Matching Program

The legal authority for this match is section 402 of the Social Security Act (42 U.S.C. 602) and section (b)(3) of the Privacy Act (5 U.S.C. 552a).

D. Categories of Records and Individuals Covered by the Match

VA will disclose information from the VA Compensation, Pension, and Education and Rehabilitation Records—VA (58 VA 21/22), contained in the Privacy Act Issuances, 1997 Compilation.

ACF will match this information with State Public Assistance Agencies Client Eligibility files.

E. Inclusive Dates of the Match

This computer match will begin no sooner than 30 days from the date HHS publishes a Computer Matching Notice in the Federal Register or 30 days from the date copies of the approved agreement and the notice of the matching program are sent to the Congressional committee of jurisdiction under subsections (0)(2)(B) and (r) of the Privacy Act, as amended, or 30 days from the date the approved agreement is sent to the Office of Management and Budget, whichever is later, provided no comments are received which result in a contrary determination.

F. Address for Receipt of Public Comments or Inquiries

Individuals wishing to comment on this matching program should submit comments to the Director, Office of State Systems Policy, Administration for Children and Families, Aerospace Building, 370 L'Enfant Promenade, SW, Washington, DC 20447.

Dated: April 5, 2000.
Olivia A. Golden,
Assistant Secretary for Children and Families.

Attachment A: ACF Public Assistance Reporting Information System (PARIS) Project

Participating State Public Assistance Agencies

1. Connecticut Department of Social Services

2. District of Columbia Department of Social Services

3. Florida Division of Public Assistance

4. Illinois Department of Public Aid

5. Kansas Department of Social and Rehabilitation Services

6. Louisiana Department of Social Services

7. Maryland Department of Human Resources

8. Massachusetts Department of Transitional Assistance

9. Nebraska Department of Social Services

10. New York Department of Social Services

11. North Carolina Department of Human Resources

12. Ohio Department of Human Services

13. Oklahoma Department of Human Services

14. Pennsylvania Department of Public Welfare

15. South Dakota Department of Social Services

16. Tennessee Department of Human Services

17. Texas Department of Human Services

18. Utah Department of Workforce Services and Department of Health

19. Virginia Department of Social Services

[FR Doc. 00-8961 Filed 4-10-00; 8:45 am]

BILLING CODE 4184-01-P